DEPARTMENT OF COMMERCE

International Trade Administration

[A-570-898]

Chlorinated Isocyanurates from the People's Republic of China: Final Results of Antidumping Duty Administrative Review

AGENCY: Import Administration, International Trade Administration, Department of Commerce.

EFFECTIVE DATE: September 10, 2008.

SUMMARY: The Department of Commerce (“the Department”) is conducting an administrative review of the antidumping duty order on chlorinated isocyanurates from the People's Republic of China (“PRC”) covering the period June 1, 2006, through May 31, 2007. We invited interested parties to comment on our preliminary results. Based on our analysis of the comments received, we have made changes to our margin calculations. Therefore, the final results differ from the preliminary results.

FOR FURTHER INFORMATION CONTACT: Jennifer Moats or Charles Riggle, AD/CVD Operations, Office 8, Import Administration, International Trade Administration, U.S. Department of Commerce, 14th Street and Constitution Avenue, NW, Washington, DC 20230; telephone: (202) 482-5047 or (202) 482-0650, respectively.

SUPPLEMENTARY INFORMATION:

Background

On May 6, 2008, the Department published its preliminary results of review of the antidumping order on chlorinated isocyanurates from the PRC. See Chlorinated Isocyanurates from the People's Republic of China: Preliminary Results of Antidumping Duty Administrative Review, 73 FR 24943 (May 6, 2008) (“Preliminary Results”). On May 27, 2008, Clearon Corporation (“Clearon”) and Occidental Chemical Corporation (“Petitioners”), Petitioners in the underlying investigation, and Hebei Jiheng Chemical Corporation, Ltd. (“Jiheng”) provided additional information on the appropriate surrogate values to use as a means of valuing the factors of production. On June 5, 2008, the Department received a request for a hearing from Petitioners. On June 12, 2008, the Department received case briefs from Petitioners and from respondents Jiheng and Nanning Chemical Industry Co. Ltd. (“Nanning”). On June 17, 2008, the Department received rebuttal briefs from Petitioners and Jiheng. On July 22, 2008, the Department held a public hearing. We have conducted this administrative review in accordance with section 751 of the Tariff act of 1930, as amended (“the Act”), and 19 CFR 351.213.

Scope of the Order

The products covered by this order are chlorinated isocyanurates, as described below: Chlorinated isocyanurates are derivatives of cyanuric acid, described as chlorinated s-triazine triones. There are three primary chemical compositions of chlorinated isocyanurates: (1) trichloroisocyanuric acid (Cl3(NCO)3), (2) sodium dichloroisocyanurate (dihydrate) (NaCl2(NCO)3•2H2O), and (3) sodium dichloroisocyanurate (anhydrous) (NaCl2(NCO)3). Chlorinated isocyanurates are available in powder, granular, and tableted forms. This order covers all chlorinated isocyanurates.

Chlorinated isocyanurates are currently classifiable under subheadings 2933.69.6015, 2933.69.6021, 2933.69.6050, 3808.40.50, 3808.50.40 and 3808.94.50.00 of the Harmonized Tariff Schedule of the United States (“HTSUS”). The tariff classification 2933.69.6015 covers sodium dichloroisocyanurates (anhydrous and dehydrate forms) and trichloroisocyanuric acid. The tariff classifications 2933.69.6021 and 2933.69.6050 represent basket categories that include chlorinated isocyanurates and other compounds including an unfused triazine ring. Although the HTSUS subheadings are provided for convenience and customs purposes, the written description of the scope of this order is dispositive.

Analysis of Comments Received

All issues raised in the post-preliminary comments by parties in this review are addressed in the memorandum from Stephen J. Claeys, Deputy Assistant Secretary for Import Administration, to David M. Spooner, Assistant Secretary for Import Administration, “Issues and Decision Memorandum for the 2006-2007 Administrative Review of Chlorinated Isocyanurates from the People's Republic of China,” dated concurrently with this notice (“Issues and Decision Memorandum”), which is hereby adopted by this notice. A list of the issues that parties raised and to which we responded in the Issues and Decision Memorandum is attached to this notice as an appendix. The Issues and Decision Memorandum is a public document and is on file in the Central Records Unit (“CRU”) in room 1117 in the main Commerce Department building, and is also accessible on the Web at http://ia.ita.doc.gov/frn. The paper copy and electronic version of the memorandum are identical in content.

Changes Since the Preliminary Results

Based on our analysis of comments received, we have made changes in the margin calculations for Jiheng and Nanning. See Issues and Decision Memorandum at Comments 1-8.

We have revised the surrogate value for electricity. For the final results, we find that the best available information with which to value electricity is the electricity price data for small, medium, and large industries, as published by the Central Electricity Authority of the Government of India in its publication titled Electricity Tariff & Duty and Average Rates of Electricity Supply in India, dated July 2006. See Issues and Decision Memorandum at Comment 3 and the Memorandum to the File titled “Surrogate Value Memorandum,” dated concurrently with this notice (“Final Surrogate Value Memorandum”).

We revised the financial ratio calculations to include rates and taxes, to exclude income relating to a prior year adjustment, and to include income items within miscellaneous income that have identifiable expenses. See Issues and Decision Memorandum at Comments 5A through 5D and the Final Surrogate Value Memorandum, dated concurrently with this notice.

We corrected certain clerical errors in the calculations for the Preliminary Results. See Issues and Decision Memorandum at Comments 7A through 7D, the Final Surrogate Value Memorandum, and Memorandum to the File titled “Analysis Memorandum for the Final Results: Hebei Jiheng Chemical Company, Ltd.,” dated concurrently with this notice.

Final Results of Review

We determined that the following dumping margins exist for the period June 1, 2006, through May 31, 2007.

Exporter/Manufacturer | Weighted-Average Margin Percentage
Jiheng | 0.80
Nanning | 53.67

Assessment Rates

The Department intends to issue assessment instructions to U.S. Customs and Border Protection (“CBP”) 15 days after the date of publication of these final results of review. In accordance with 19 CFR 351.212(b)(1), we have calculated importer-specific assessment rates for merchandise subject to this review.

Cash Deposit Requirements

The following deposit requirements will be effective upon publication of this notice of final results of administrative review for all shipments of subject merchandise entered, or withdrawn from warehouse, for consumption on or after the date of publication, as provided by section 751(a)(2)(C) of the Act: (1) for subject merchandise exported by Jiheng, the cash deposit rate will be 0.80 percent and for subject merchandise exported by Nanning, the cash deposit rate will be 53.67 percent; (2) for previously reviewed or investigated exporters not listed above that have separate rates, the cash deposit rate will continue to be the exporter-specific rate published for the most recent period; (3) for all PRC exporters of subject merchandise, which have not been found to be entitled to a separate rate, the cash deposit rate will be the PRC-wide rate of 285.63 percent; and (4) for all non-PRC exporters of subject merchandise that have not received their own rate, the cash deposit rate will be the rate applicable to the PRC exporter that supplied that non-PRC exporter. These deposit requirements shall remain in effect until further notice.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties. This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing these final results of review and notice in accordance with sections 751(a) and 777(i) of the Act.

Dated: September 3, 2008.
David M. Spooner,
Assistant Secretary for Import Administration.

APPENDIX

List of Comments and Issues in the Issues and Decision Memorandum

Surrogate Values

Comment 1: Surrogate Value for Urea

Comment 2: Surrogate Value for Sodium Chloride (Salt)

Comment 3: Surrogate Value for Electricity

Comment 4: Surrogate Value for Steam Coal

Comment 5: Financial Ratios

A. Rates and Taxes

B. Other Income Related to Prior Year Adjustment

C. Income Items within Miscellaneous Receipts

D. Cost of Traded Goods and Increase in Stocks

Company Specific Issues

Jiheng

Comment 6: By-Product Offsets

A. Ammonia Gas

B. Hydrogen

Comment 7: Clerical Errors

A. Supersacks

B. Rail Freight

C. Free of Charge Packaging Materials

D. Reimbursed Materials

Nanning

Comment 8: Cyanuric Acid.

[FR Doc. E8-20916 Filed 9-9-08; 8:45 am]

BILLING CODE 3510-DS-S